NUCLEAR REGULATORY COMMISSION

10 CFR Chapter I

[NRC-2015-0222]

Unified Agenda of Federal Regulatory and Deregulatory Actions

AGENCY: Nuclear Regulatory Commission.

ACTION: Semiannual regulatory agenda.

SUMMARY: The U.S. Nuclear Regulatory Commission (NRC) is publishing its semiannual regulatory agenda (the Agenda) in accordance with Public Law 96-354, “The Regulatory Flexibility Act,” and Executive Order 12866, “Regulatory Planning and Review.” The Agenda is a compilation of all rules on which the NRC has recently completed action or has proposed or is considering action. The NRC has completed 8 rulemaking activities since publication of its last Agenda on June 18, 2015 (80 FR 35170). This issuance of the NRC's Agenda contains 34 active and 23 long-term rulemaking activities: 3 are Economically Significant; 10 represent Other Significant agency priorities; 50 are Substantive, Nonsignificant rulemaking activities; and 2 are Administrative rulemaking activity. In addition, 4 rulemaking activities impact small entities. This issuance also contains the NRC's annual regulatory plan, which includes a statement of the major rules that the NRC expects to publish in the coming fiscal year (FY) and a description of the other significant regulatory priorities that the NRC expects to work on during the coming FY and beyond. The NRC is requesting comment on its rulemaking activities as identified in this Agenda.

DATES: Submit comments on rulemaking activities as identified in this Agenda by January 14, 2016.

ADDRESSES: Submit comments on any rulemaking activity in the Agenda by the date and methods specified in any Federal Register notice on the rulemaking activity. Comments received on rulemaking activities for which the comment period has closed will be considered if it is practical to do so, but assurance of consideration cannot be given except as to comments received on or before the closure dates specified in the Federal Register notice. You may submit comments on this Agenda through the Federal Rulemaking Web site by going to http://www.regulations.gov and searching for Docket ID NRC-2015-0222. Address questions about NRC dockets to Carol Gallagher; telephone: 301-415-3463; email: Carol.Gallagher@nrc.gov. For technical questions on any rulemaking activity listed in the Agenda, contact the individual listed under the heading “Agency Contact” for that rulemaking activity.

For additional direction on obtaining information and submitting comments, see “Obtaining Information and Submitting Comments” in the SUPPLEMENTARY INFORMATION section of this document.

FOR FURTHER INFORMATION CONTACT: Cindy Bladey, Office of Administration, U.S. Nuclear Regulatory Commission, Washington, DC 20555-0001, telephone: 301-415-3280; email: Cindy.Bladey@nrc.gov. Persons outside the Washington, DC, metropolitan area may call, toll-free: 1-800-368-5642. For further information on the substantive content of any rulemaking activity listed in the Agenda, contact the individual listed under the heading “Agency Contact” for that rulemaking activity.

SUPPLEMENTARY INFORMATION:

Obtaining Information and Submitting Comments

A. Obtaining Information

Please refer to Docket ID NRC-2015-0222 when contacting the NRC about the availability of information for this document. You may obtain publically-available information related to this document by any of the following methods:

• Reginfo.gov:

○ For completed rulemaking activities go to http://www.reginfo.gov/public/do/eAgendaHistory?showStage=completed and select Nuclear Regulatory Commission from drop down menu.

○ For active rulemaking activities go to http://www.reginfo.gov/public/do/eAgendaMain and select Nuclear Regulatory Commission from drop down menu.

○ For long-term rulemaking activities go to http://www.reginfo.gov/public/do/eAgendaHistory?operation=OPERATION_GET_PUBLICATION&showStage=longterm&currentPubId=201410 and select Nuclear Regulatory Commission from drop down menu.

• Federal Rulemaking Web site: Go to http://www.regulations.gov and search for Docket ID NRC-2015-0222.

• NRC's Public Web site: Go to http://www.nrc.gov/reading-rm/doc-collections/rulemaking-ruleforum/unified-agenda.html and select fall 2015.

• NRC's Public Document Room: You may examine and purchase copies of public documents at the NRC's PDR, Room O1-F21, One White Flint North, 11555 Rockville Pike, Rockville, Maryland 20852.

B. Submitting Comments

Please include Docket ID NRC-2015-0222 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The Agenda is a compilation of all rulemaking activities on which an agency has recently completed action or has proposed or is considering action. The Agenda reports rulemaking activities in three major categories: completed, active, and long-term. Completed rulemaking activities are those that were completed since publication of an agency's last Agenda; active rulemaking activities are those that an agency currently plans to have an Advance Notice of Proposed Rulemaking, a Proposed Rule, or a Final Rule issued within the next 12 months; and long-term rulemaking activities are rulemaking activities under development but for which an agency does not expect to have a regulatory action within the 12 months after publication of the current edition of the Agenda.

A “Regulation Identifier Number” or RIN is given to each rulemaking activity that the NRC has published or plans on publishing a Federal Register notice and the Office of Management and Budget uses this number to track all relevant documents throughout the entire “lifecycle” of a particular rulemaking activity. The NRC reports all rulemaking activities in the Agenda that have been assigned a RIN and meet the definition for a completed, an active, or a long-term rulemaking activity.

The information contained in this Agenda is updated to reflect any action that has occurred on rulemaking activities since publication of the last NRC Agenda on June 18, 2015 (80 FR 35170). Specifically, the information in this Agenda has been updated through September 18, 2015.

The date for the next scheduled action under the heading “Timetable” is the date the next regulatory action for the rulemaking activity is scheduled to be published in the Federal Register. The date is considered tentative and is not binding on the Commission or its staff. The Agenda is intended to provide the public early notice and opportunity to participate in the NRC rulemaking process. However, the NRC may consider or act on any rulemaking activity even though it is not included in the Agenda.

Common Prioritization of Rulemaking

A key part of the NRC's regulatory program is a periodic review of all ongoing and potential rulemaking activities. In conjunction with its budget, the NRC compiles a Common Prioritization of Rulemaking (CPR) report to develop program budget estimates and to determine the relative priority of NRC rulemaking activities. The CPR process considers four factors and assigns a score to each factor. Factor A includes activities that support the NRC's Strategic Plan goals of ensuring the safe and secure use of radioactive materials. Factor B includes rulemaking activities that support the NRC's Strategic Plan cross-cutting strategies for enhancing regulatory effectiveness and/or openness in the conduct of regulatory activities. Factor C is a governmental factor representing the relative interest of the NRC, Congress, or other governmental bodies in the rulemaking activity. Factor D is an external factor representing the relative interest to members of the public, non-governmental organizations, the nuclear industry, vendors, and suppliers in the rulemaking activity. The overall priority is determined by adding the factor scores together for each rulemaking activity. The CPR report and a detailed description of the CPR process are available from the NRC's Web site at http://www.nrc.gov/reading-rm/doc-collections/rulemaking-ruleforum/rule-priorities.html.

The NRC's fall Agenda contains its annual regulatory plan, which includes a statement of the major rules that the NRC expects to publish in the coming FY and a description of the other significant regulatory priorities from the CPR that the NRC expects to work on during the coming FY and beyond. The NRC's regulatory plan was submitted to OMB in June 2015; updates have been reflected in the Agenda abstract for each rulemaking.

Section 610 Periodic Reviews Under the Regulatory Flexibility Act

Section 610 of the Regulatory Flexibility Act (RFA) requires agencies to conduct a review within 10 years of promulgation of those regulations that have or will have a significant economic impact on a substantial number of small entities. The NRC undertakes these reviews to decide whether the rules should be unchanged, amended, or withdrawn. At this time, the NRC does not have any rules that have a significant economic impact on a substantial number of small entities; therefore, the NRC has not included any RFA Section 610 periodic reviews in this edition of the Agenda. A complete listing of NRC regulations that impact small entities and related Small Entity Compliance Guides will be available from the NRC's Web site at http://www.nrc.gov/about-nrc/regulatory/rulemaking/flexibility-act/small-entities.html.

Public Comments Received on NRC Agendas

The NRC has received comments from the Nuclear Energy Institute (NEI) regarding the level of detail provided in the abstract for each NRC rulemaking activity and on the process the NRC uses to prioritize its rulemaking activities.

The NRC actively seeks to improve its rulemaking process and reporting. In recent Agendas NRC has reported additional information in the preamble and in the abstracts for its rules; in addition, in June of 2015, NRC launched a new public Web page with detail on the NRC's process for rulemaking prioritization: http://www.nrc.gov/reading-rm/doc-collections/rulemaking-ruleforum/rule-priorities.html. NRC finds these actions address NEI's suggestions related to reporting on its rulemaking prioritization. NRC notes that it has received comments from NEI and other members of the public regarding the methodology staff uses to prioritize rulemaking activities. Each year the NRC reviews its methodology for prioritizing rulemaking activities to determine if changes are necessary; at this time the NRC does not plan to make any changes to its methodology. However, the agency currently is engaged in an enterprise-wide project to review several of its regulatory and internal processes, including rulemaking (see http://pbadupws.nrc.gov/docs/ML1515/ML15159A234.pdf).

Dated at Rockville, Maryland, this 18th day of September 2015.
For the Nuclear Regulatory Commission.
Cindy Bladey,
Chief, Rules, Announcements, and Directives Branch, Division of Administrative Services, Office of Administration.

Nuclear Regulatory Commission—Proposed Rule Stage
Sequence No. | Title | Regulation Identifier No.
538 | Variable Annual Fee Structure for Small Modular Power Reactors [NRC-2008-0664] | 3150-AI54
539 | Revision of Fee Schedules: Fee Recovery for FY 2016 [NRC-2015-0223] | 3150-AJ66

Nuclear Regulatory Commission—Long-Term Actions
Sequence No. | Title | Regulation Identifier No.
540 | Controlling the Disposition of Solid Materials [NRC-1999-0002] | 3150-AH18

Nuclear Regulatory Commission—Completed Actions
Sequence No. | Title | Regulation Identifier No.
541 | Revision of Fee Schedules: Fee Recovery for FY 2015 [NRC-2014-0200] | 3150-AJ44

NUCLEAR REGULATORY COMMISSION (NRC)

Proposed Rule Stage

538. Variable Annual Fee Structure for Small Modular Power Reactors [NRC-2008-0664]

Legal Authority: 42 U.S.C. 2201; 42 U.S.C. 5841

Abstract: The advanced notice of proposed rulemaking (ANPRM) was published in the Federal Register on March 25, 2009 (74 FR 12735), seeking comments from the public on a possible variable fee structure for part 171 annual fees for power reactors based on licensed power limits. The comment period ended on June 8, 2009, and the NRC received 16 public comments. The Commission approved the staff's recommendation to establish an NRC workgroup to analyze suggested methodologies for a variable annual fee structure for power reactors in SECY-09-0137 dated October 13, 2009. On February 7, 2011, the Office of the Chief Financial Officer (OCFO) sent a memorandum to the Commission (ADAMS Accession No. ML110380251) responding to SECY-09-0137. On March 27, 2015, the OCFO sent a memorandum to the Commission requesting approval to proposed a variable annual fee structure for small modular reactor March 27, 2015, (ADAMS Accession No. ML110380251). The Commission approved the staff's request to publish this rule (SRM) to SECY-15-044, May 18, 2015, (ADAMS Accession No. ML15135A427).

Timetable:

Action | Date | FR Cite
ANPRM | 03/25/09 | 74 FR 12735
ANPRM Comment Period End | 06/08/09 |
NPRM | 11/04/15 | 80 FR 68268
NPRM Comment Period End | 12/04/15 |
Final Rule | 06/00/16 |

Regulatory Flexibility Analysis Required: Yes.

Agency Contact: Arlette P. Howard, Nuclear Regulatory Commission, Office of the Chief Financial Officer, Washington, DC 20555-0001, Phone: 301 415-1481, Email: arlette.howard@nrc.gov.

RIN: 3150-AI54

539. • Revision of Fee Schedules: Fee Recovery for FY 2016 [NRC-2015-0223]

Legal Authority: 42 U.S.C. 2201; 42 U.S.C. 5841

Abstract: This proposed rulemaking would amend the licensing, inspection, and annual fees that the Commission charges its applicants and licensees. These amendments would implement the Omnibus Budget Reconciliation Act of 1990 (OBRA-90) as amended, which requires that the NRC recover approximately 90 percent of its budget authority in Fiscal Year (FY) 2016, less the amounts appropriated from the Waste Incidental to Reprocessing, and generic homeland security activities.

Timetable:

Action | Date | FR Cite
NPRM | 03/00/16 |

Regulatory Flexibility Analysis Required: Yes.

Agency Contact: Arlette P. Howard, Nuclear Regulatory Commission, Office of the Chief Financial Officer, Washington, DC 20555-0001, Phone: 301 415-1481, Email: arlette.howard@nrc.gov.

RIN: 3150-AJ66

NUCLEAR REGULATORY COMMISSION (NRC)

Long-Term Actions

540. Controlling the Disposition of Solid Materials [NRC-1999-0002]

Legal Authority: 42 U.S.C. 2201; 42 U.S.C. 5841

Abstract: The NRC staff provided a draft proposed rule package on Controlling the Disposition of Solid Materials to the Commission on March 31, 2005, which the Commission disapproved (ADAMS Accession No. ML051520285). The rulemaking package included a summary of stakeholder comments (NUREG/CR-6682), Supplement 1 (ADAMS Accession No. ML003754410). The Commission's decision was based on the fact that the Agency is currently faced with several high priority and complex tasks, that the current approach to review specific cases on an individual basis is fully protective of public health and safety, and that the immediate need for this rule has changed due to the shift in timing for reactor decommissioning. The Commission has deferred action on this rulemaking.

Timetable:

Action | Date | FR Cite
ANPRM | To Be Determined

Regulatory Flexibility Analysis Required: Yes.

Agency Contact: Torre Taylor, Nuclear Regulatory Commission, Office of Nuclear Material Safety and Safeguards, Washington, DC 20555-0001, Phone: 301 415-7900, Email: torre.taylor@nrc.gov.

RIN: 3150-AH18

NUCLEAR REGULATORY COMMISSION (NRC)

Completed Actions

541. Revision of Fee Schedules: Fee Recovery for FY 2015 [NRC-2014-0200]

Legal Authority: 42 U.S.C. 2201; 42 U.S.C. 5841

Abstract: This final rule amends the licensing, inspection, and annual fees that the Commission charges its applicants and licensees. These amendments implement the Omnibus Budget Reconciliation Act of 1990 (OBRA-90) as amended, which requires that the NRC recover approximately 90 percent of its budget authority in Fiscal Year (FY) 2015, less the amounts appropriated from the Waste Incidental to Reprocessing, and generic homeland security activities.

Completed:

Reason | Date | FR Cite
Final Rule | 06/30/15 | 80 FR 37432
Final Rule Effective | 08/31/15 |

Regulatory Flexibility Analysis Required: Yes.

Agency Contact: Arlette P. Howard, Phone: 301 415-1481, Email: arlette.howard@nrc.gov.

RIN: 3150-AJ44

[FR Doc. 2015-30676 Filed 12-14-15; 8:45 am]

BILLING CODE 7590-01-P